SECURITIES AND EXCHANGE COMMISSION

[Release No. 35-27262]

Filings Under the Public Utility Holding Company Act of 1935, as Amended (“Act”) October 26, 2000

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by November 20, 2000, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After November 20, 2000, the application(s) and/or declaration(s), as filed or as amended, may be granted and/or permitted to become effective.

AEP Credit, Inc. (70-7218)

AEP Credit, Inc. (“Credit”), 1616 Woodall Rodgers Freeway, Dallas, Texas 75202, a nonutility subsidiary company of American Electric Power Company, Inc. (“AEP”), 1 Riverside Plaza, Columbus, Ohio 43215, a registered holding company, has file a post-effective amendment under sections 6(a), 7, 9(a), 10 and 12(b) of the Act and rule 54 under the Act, to a previously file application-declaration.

By order dated December 13, 1996 (HCAR No. 26627), Credit was authorized, through December 31, 2000, to factor the accounts receivable of associate and nonassociate utilities companies, provided that the average amount of nonassociate utility receivables for the proceeding 12 month period outstanding as of the end of any calendar month would be less than the average amount of receivables acquired from associate companies outstanding as of the end of each calendar month during the preceding 12 month period (“50% Restriction”).

Credit now seeks to extend its authority to factor the accounts receivable of associate and nonassociate utility company through September 30, 2005, subject to the 50% Restriction.

Unitil Corporation (70-9633)

Unitil Corporation (“Unitil”), a registered holding company, and its public utility subsidiary companies, Concord Electric Company, Exeter & Hampton Electric Company, Fitchburg Gas and Electric Light Company (“Fitchburg”) and Unitil Power Corporation (collectively, “Subsidiaries”), all located at 6 Liberty Lane West, Hampton, New Hampshire 03842-1720, have filed a post-effective amendment under sections 6(a), 7, 9(a) and 10 of the Act and rules 43 and 54 under the Act to an application-declaration previously filed under the Act.

By orders dated June 30, 1997 and June 9, 2000 (HCAR Nos. 26737 and 27182) (“Orders”), among other things, Unitil was authorized to issue and sell short-term notes (“Notes”) to banks in an aggregate outstanding amount not exceeding $25 million (“Short-Term Debt Limitation”) and to operate, and lend funds to members of, the Unitil system money pool (“Money Pool”), through June 30, 2003. The Orders provided that Unitil's short-term debt would bear interest at the lending bank's base, prime or money market rate and mature not more than nine months from issuance.

Unitil now proposes to increase the Short-Term Debt Limitation from $25 million to $35 million, through June 30, 2003. The Notes will be issued under the same terms and conditions as provided by the Orders. The proceeds may be used to fund the Money Pool; however, Fitchburg is not requesting increased authority to effect Money Pool borrowings.

For the Commission by the Division of Investment Management, pursuant to delegated authority.
Jonathan G. Katz,
Secretary.

[FR Doc. 00-28138 Filed 11-1-00; 8:45 am]

BILLING CODE 8010-01-M